NUCLEAR REGULATORY COMMISSION

[Docket No. 40-8838-MLA; ASLBP No. 00-776-04-MLA]

Atomic Safety and Licensing Board; Before Administrative Judges: Alan S. Rosenthal, Chairman, Dr. Paul B. Abramson, Dr. Richard F. Cole; In the Matter of U.S. Army (Jefferson Proving Ground Site); Notice of Hearing (Application for Materials License Amendment)

January 4, 2007.

This proceeding involves the May 25, 2005 application submitted by the Department of the Army (Licensee) for an amendment to its NRC materials license (License No. SUB-1435). The amendment would authorize an alternate schedule for the submittal to the NRC Staff of a decommissioning plan for the Licensee's Jefferson Proving Ground (JPG) site located in Madison, Indiana. Such a plan is required because there is currently amassed on that site a considerable quantity of depleted uranium (DU) munitions, the result of the Licensee's conduct, between 1984 and 1994 and under the auspices of the NRC materials license, of accuracy testing of DU tank penetration rounds. On December 9, 2005, this Atomic Safety and Licensing Board was established by the Commission to preside over the proceeding.

On February 2, 2006, this Atomic Safety and Licensing Board granted a petition to intervene and request for hearing filed by Save the Valley, Inc., and deferred any hearing pending the completion of the NRC Staff's technical review. LBP-06-06, 63 NRC 167, 185-86 (2006). On December 20, 2006, after the completion of the Staff's technical review and issuance of the requested license amendment, this Board issued a Memorandum and Order in which we determined the scope of the evidentiary hearing. LBP-06-27, 64 NRC_(slip op.) (Dec. 20, 2006).

In light of the foregoing, please take notice that a hearing will be conducted in this proceeding. The hearing will be governed by the informal hearing procedures set forth in 10 CFR Part 2, Subpart L (10 CFR 2.1200-.1213). During the course of the proceeding, the Board may conduct an oral argument (id. § 2.331), may hold pre-hearing conferences (id. § 2.329), and may conduct evidentiary hearings (id. § 2.1207). The public is invited to attend any oral argument, pre-hearing conference, or evidentiary hearing unless otherwise ordered by the Commission (id. §§ 2.327(b), 2.328). Notices of these sessions will be published in the Federal Register and/or made available to the public at the NRC Public Document Room, located at One White Flint, 11555 Rockville Pike (first floor), Rockville, Maryland, and through the NRC Web site, http://www.nrc.gov.

Additionally, as provided in 10 CFR 2.315(a), any person not a party to the proceeding may submit a written limited appearance statement setting forth his or her position on the issues in this proceeding. These statements do not constitute evidence, but may assist the Board and/or parties in defining the issues being considered. Persons wishing to submit a written limited appearance statement should send it by mail to the Office of the Secretary, U.S. Nuclear Regulatory Commission, Washington, DC 20555-0001, Attention: Rulemakings and Adjudications Staff. A copy of the statement should also be served on the Chairman of this Atomic Safety and Licensing Board by mail to the Atomic Safety and Licensing Board Panel, U.S. Nuclear Regulatory Commission, Washington, DC 20555-0001.

Documents relating to this proceeding are available for public inspection at the NRC's Public Document Room or electronically from the publicly available records component of NRC's document system (ADAMS). ADAMS is accessible from the NRC Web site at http://www.nrc.gov/reading-rm/adams.html Persons who do not have access to ADAMS or who encounter problems in accessing the documents located in ADAMS may contact the NRC Public Document Room reference staff by telephone at 1-800-397-4209 or 301-415-4737, or by e-mail to pdr@nrc.gov.

It is so ordered.

For the Atomic Safety and Licensing Board.¹
¹ Copies of this Notice of Hearing were sent this date by Internet e-mail to counsel for (1) the Department of the Army, (2) the NRC Staff, and (3) Save the Valley, Inc.
Dated: January 4, 2007 in Rockville, Maryland.
Alan S. Rosenthal,
Chairman, Administrative Judge.

[FR Doc. E7-175 Filed 1-9-07; 8:45 am]

BILLING CODE 7590-01-P